DEPARTMENT OF VETERANS AFFAIRS

Department of Veterans Affairs Voluntary Service National Advisory Committee, Notice of Meetings

The Department of Veterans Affairs (VA) gives notice under the Federal Advisory Committee Act that the Executive Committee of the VA Voluntary Service (VAVS) National Advisory Committee (NAC) will meet October 17-18, 2019, at Disabled American Veterans Legislative Headquarters, 807 Maine Avenue SW, Washington, DC. The meeting sessions will begin and end as follows:

Date | Time
October 17, 2019 | 8:30 a.m. to 4:30 p.m.
October 18, 2019 | 8:30 a.m. to 12:00 p.m.

The meeting is open to the public.

The Committee, comprised of 53 major Veteran, civic, and service organizations, advises the Secretary, through the Under Secretary for Health, on the coordination and promotion of volunteer activities and strategic partnerships within VA health care facilities, in the community, and on matters related to volunteerism and charitable giving. The Executive Committee consists of 20 representatives from the NAC member organizations.

On October 17, agenda topics will include: NAC goals and objectives; review of minutes from the May 1, 2019, Executive Committee meeting; VAVS update on the Voluntary Service program's activities; VHA update, update on strategic partnerships; Parke Board update; evaluations of the 2019 NAC annual meeting; review of membership criteria and process; and plans for 2020 NAC annual meeting (to include workshops and plenary sessions).

On October 18, agenda topics will include: Subcommittee reports; review of standard operating procedures; review of fiscal year 2019 organization data; 2021 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW, Washington, DC 20420, or email at Sabrina.Clark@VA.gov. Any member of the public wishing to attend the meeting or seeking additional information should contact Mrs. Clark at (202) 461-7300.

Dated: September 12, 2019.
Jelessa M. Burney,
Federal Advisory Committee Management Officer.

[FR Doc. 2019-20106 Filed 9-16-19; 8:45 am]

BILLING CODE P